DEPARTMENT OF ENERGY

Federal Energy Regulatory Commission

Combined Notice of Filings #1

Take notice that the Commission received the following exempt wholesale generator filings:

Docket Numbers: EG13-33-000.

Applicants: Solar Star California XIX, LLC.

Description: Self-Certification of EWG Status of Solar Star California XIX, LLC.

Filed Date: 5/9/13.

Accession Number: 20130509-5024.

Comments Due: 5 p.m. ET 5/30/13.

Docket Numbers: EG13-34-000.

Applicants: Solar Star California XX, LLC.

Description: Self-Certification of EWG Status of Solar Star California XX, LLC.

Filed Date: 5/9/13.

Accession Number: 20130509-5025.

Comments Due: 5 p.m. ET 5/30/13.

Take notice that the Commission received the following electric rate filings:

Docket Numbers: ER12-2498-001; ER12-2499-001.

Applicants: Alpaugh 50, LLC, Alpaugh North, LLC.

Description: Notice of Change in Status of Alpaugh 50, LLC, et al.

Filed Date: 5/9/13.

Accession Number: 20130509-5080.

Comments Due: 5 p.m. ET 5/30/13.

Docket Numbers: ER13-1021-001.

Applicants: Mesquite Solar 1, LLC.

Description: Mesquite Solar 1, LLC Compliance Filing to be effective 2/28/2013.

Filed Date: 5/9/13.

Accession Number: 20130509-5075.

Comments Due: 5 p.m. ET 5/30/13.

Docket Numbers: ER13-1077-001.

Applicants: Niagara Mohawk Power Corporation, New York Independent System Operator, Inc.

Description: Revised LGIA 1970 between National Grid and Indeck-Yerkes to be effective 12/26/2012.

Filed Date: 5/9/13.

Accession Number: 20130509-5050.

Comments Due: 5 p.m. ET 5/30/13.

Docket Numbers: ER10-1459-005.

Applicants: FirstEnergy Solutions Corp.

Description: Revised Affiliate Sales MBR Power Sales Tariff to be effective 6/1/2013.

Filed Date: 5/8/13.

Accession Number: 20130508-5118.

Comments Due: 5 p.m. ET 5/29/13.

Docket Numbers: ER13-1440-000.

Applicants: Electricity MASS, LLC.

Description: Electricity MASS, LLC FERC Tariff to be effective 5/9/2013.

Filed Date: 5/9/13.

Accession Number: 20130509-5000.

Comments Due: 5 p.m. ET 5/30/13.

Docket Numbers: ER13-1441-000.

Applicants: Solar Star California XIX, LLC.

Description: Application for MBR Authority to be effective 7/8/2013.

Filed Date: 5/9/13.

Accession Number: 20130509-5032.

Comments Due: 5 p.m. ET 5/30/13.

Docket Numbers: ER13-1442-000.

Applicants: Solar Star California XX, LLC.

Description: Application for MBR Authority to be effective 7/8/2013.

Filed Date: 5/9/13.

Accession Number: 20130509-5033.

Comments Due: 5 p.m. ET 5/30/13.

Docket Numbers: ER13-1443-000.

Applicants: PJM Interconnection, L.L.C.

Description: Original Service Agreement No. 3528; Queue No. X3-041 to be effective 4/19/2013.

Filed Date: 5/9/13.

Accession Number: 20130509-5051.

Comments Due: 5 p.m. ET 5/30/13.

Docket Numbers: ER13-1444-000.

Applicants: Midcontinent Independent System Operator, Inc.

Description: 05-09-2013 SA 1637 ITC & High Prairie Wind Amend GIA to be effective 5/10/2013.

Filed Date: 5/9/13.

Accession Number: 20130509-5068.

Comments Due: 5 p.m. ET 5/30/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2013.
Nathaniel J. Davis, Sr.,
Deputy Secretary.

[FR Doc. 2013-11805 Filed 5-16-13; 8:45 am]

BILLING CODE 6717-01-P